DEPARTMENT OF HEALTH AND HUMAN SERVICES

Indian Health Service

Office of Urban Indian Health Programs Proposed Single Source Grant With Native American Lifelines, Inc.

Funding Announcement Number: HHS-2013-IHS-UIHP-0002.

Catalogue of Federal Domestic Assistance Number: 93.193.

Key Dates

Application Deadline Date: August 26, 2013.

Review Period: August 28, 2013.

Earliest Anticipated Start Date: September 1, 2013.

I. Funding Opportunity Description

Statutory Authority

The Indian Health Service (IHS), Office of Urban Indian Health Programs (OUIHP), announces the FY 2013 single source competing grant for operation support for the 4-in-1 Title V grant to make health care services more accessible for American Indians and Alaska Natives (AI/AN) residing in the Boston metropolitan area. This program is authorized under the authority of the Snyder Act, 25 U.S.C. 13, and the Indian Health Care Improvement Act (IHCIA), as amended, 25 U.S.C. 1652, 1653, 1660a. This program is described at 93.193 in the Catalog of Federal Domestic Assistance (CFDA).

Purpose

Under this grant opportunity, the IHS proposes to award a single source grant to Native American Lifelines, Inc., which is an urban Indian organization that has an existing IHS contract, in accordance with 25 U.S.C. 1653(c)-(f), 1660a, in the Boston metropolitan area. This grant announcement seeks to ensure the highest possible health status for urban Indians. Funding will be used to establish the urban Indian organization's successful implementation of the priorities of the Department of Health and Human Services (HHS), Strategic Plan Fiscal Years 2010-2015, Healthy People 2020, and the IHS Strategic Plan 2006-2011. Additionally, funding will be utilized to meet objectives for Government Performance Rating Act (GPRA) reporting, collaborative activities with the Veterans Health Administration (VA), and four health programs that make health services more accessible to urban Indians. The four health services programs are: (1) Health Promotion/Disease Prevention (HP/DP) services, (2) Immunizations, (3) Behavioral Health Services consisting of Alcohol/Substance Abuse services, and (4) Mental Health Prevention and Treatment services. These programs are integral components of the IHS improvement in patient care initiative and the strategic objectives focused on improving safety, quality, affordability, and accessibility of health care.

Single Source Justification

Native American Lifelines, Inc. is identified as the single source for this award, based on the following criteria:

1. As required by law, the grants authorized by 25 U.S.C. 1653(c)-(f), 1660a may only be awarded to those urban Indian organizations that have a current contract with the IHS to provide health care to urban Indians, in the urban center identified in the contract.

2. Native American Lifelines is the urban Indian organization IHS currently contracts with to provide health care and referral services to urban Indians residing in the Boston area.

Native American Lifelines, Inc. is uniquely qualified to receive this award and provide the identified program activities based on their history with the urban Indian health programs, and their knowledge of urban Indian health and the Boston target population. The program is licensed by the state as a behavioral health provider; all of the staff operating at the facility are licensed and credential in their respective fields (specifically behavioral health); and they use evidence-based behavioral health assessment and treatment strategies with success. The program successfully uses targeted outreach and comprehensive case management services for clients in the community. Through this outreach and case management, the program has expanded offering to include on-site dental service and transportation. Also, the program has been successful in entering into collaborative agreements with community health resources for the provision of quality and comprehensive health care for clients. In support of these successful activities, the Board of Directors is active in the program and committed to bringing quality health care to the urban Indians of the Boston metropolitan area.

II. Award Information

Type of Awards

Grant.

Estimated Funds Available

The total amount of funding identified for the current fiscal year (FY) 2013 is $153,126. Any awards issued under this announcement are subject to the availability of funds. In the absence of funding, the Agency is under no obligation to make awards funded under this announcement.

Anticipated Number of Awards

One single source award will be issued under this program announcement.

Project Period

The project periods for this award will be as follows:

Year One: Six Months Budget Period from September 1, 2013 to March 31, 2014.

Year Two: Twelve Months Budget Period from—April 1, 2014 to March 31, 2015.

Year Three: Twelve Months Budget Period from—April 1, 2015 to March 31, 2016.

IIII. Application and Submission Information

1. Obtaining Application Materials

The application package and detailed instructions for this announcement can be found at http://www.Grants.gov or https://www.ihs.gov/dgm/index.cfm?module=dsp_dgm_funding. Questions regarding the electronic application process may be directed to Mr. Paul Gettys at (301) 443-2114.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single-spaced and not exceed five pages).

• Project Narrative (must be single spaced and not exceed ten pages).

○ Background information on the organization.

○ Proposed scope of work, objectives, and activities that provide a description of what will be accomplished, including a one-page Timeframe Chart.

• 501(c)(3) Certificate.

• Disclosure of Lobbying Activities (SF-LLL).

• Certification Regarding Lobbying (GG-Lobbying Form).

• Copy of current Negotiated Indirect Cost rate (IDC) agreement (required) in order to receive IDC.

• Documentation of current OMB A-133 required Financial Audit (if applicable).

Acceptable forms of documentation include:

○ Email confirmation from Federal Audit Clearinghouse (FAC) that audits were submitted; or

○ Face sheets from audit reports. These can be found on the FAC Web site: http://harvester.census.gov/sac/dissem/accessoptions.html?submit=Go+To+Database.

Public Policy Requirements

All Federal-wide public policies apply to IHS grants with exception of the Discrimination policy.

Requirements for Project and Budget Narratives

A. Project Narrative: This narrative should be a separate Word document that is no longer than ten pages and must: be single-spaced, be typewritten, have consecutively numbered pages, use black type not smaller than 12 characters per one inch, and be printed on one side only of standard size 8½″ × 11″ paper. These narratives will assist the Objective Review Committee (ORC) in becoming more familiar with the grantee's activities and accomplishments prior to this possible grant award. If the narrative exceeds the page limit, only the first ten pages will be reviewed. The 10-page limit for the narrative does not include the work plan, standard forms, table of contents, budget, budget justifications, narratives, and/or other appendix items.

B. Budget Narrative: This narrative must describe the budget requested and match the scope of work described in the project narrative. The budget narrative should not exceed five pages.

3. Submission Dates and Times

Applications must be submitted electronically through Grants.gov by 12:00 a.m., midnight Eastern Daylight Time (EDT) on the Application Deadline Date listed in the Key Dates section on page one of this announcement. Any application received after the application deadline will not be accepted for processing, nor will it be given further consideration for funding. The applicant will be notified by the Division of Grants Management (DGM) via email of this decision.

If technical challenges arise and assistance is required with the electronic application process, contact Grants.gov Customer Support via email to support@grants.gov or at (800) 518-4726. Customer Support is available to address questions 24 hours a day, 7 days a week (except on Federal holidays). If problems persist, contact Mr. Paul Gettys, DGM (Paul.Gettys@ihs.gov) at (301) 443-2114. Please be sure to contact Mr. Gettys at least ten days prior to the application deadline. Please do not contact the DGM until you have received a Grants.gov tracking number. In the event you are not able to obtain a tracking number, call the DGM as soon as possible.

If the applicant needs to submit a paper application instead of submitting electronically via Grants.gov, prior approval must be requested and obtained (see Section IV.6 below for additional information). The waiver must be documented in writing (emails are acceptable), before submitting a paper application. A copy of the written approval must be submitted with the hardcopy that is mailed to the DGM. Once the waiver request has been approved, the applicant will receive a confirmation of approval and the mailing address to submit the application. Paper applications that are submitted without a waiver from the Acting Director of DGM will not be reviewed or considered further for funding. The applicant will be notified via email of this decision by the Grants Management Officer of DGM. Paper applications must be received by the DGM no later than 5:00 p.m., EST, on the Application Deadline Date listed in the Key Dates section on page one of this announcement. Late applications will not be accepted for processing or considered for funding.

4. Intergovernmental Review

Executive Order 12372 requiring intergovernmental review is not applicable to this program.

5. Funding Restrictions

• Pre-award costs are not allowable.

• The available funds are inclusive of direct and appropriate indirect costs.

• IHS will not acknowledge receipt of applications.

6. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

If the applicant receives a waiver to submit paper application documents, the applicant must follow the rules and timelines that are noted below. The applicant must seek assistance at least ten days prior to the Application Deadline Date listed in the Key Dates section on page one of this announcement.

Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If technical challenges are experienced while submitting the application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, the applicant must submit a request in writing (emails are acceptable) to GrantsPolicy@ihs.gov with a copy to Tammy.Bagley@ihs.gov. Please include a clear justification for the need to deviate from the standard electronic submission process.

• If the waiver is approved, the application should be sent directly to the DGM by the Application Deadline Date listed in the Key Dates section on page one of this announcement.

• An applicant is strongly encouraged not to wait until the deadline date to begin the application process through Grants.gov as the registration process for SAM and Grants.gov could take up to fifteen working days.

• Please use the optional attachment feature in Grants.gov to attach additional documentation that may be requested by the DGM.

• An applicant must comply with any page limitation requirements described in this Funding Announcement.

• After electronically submitting the application, the applicant will receive an automatic acknowledgment from Grants.gov that contains a Grants.gov tracking number. The DGM will download the application from Grants.gov and provide necessary copies to the appropriate agency officials. Neither the DGM nor the OCPS will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, please access it through http://fedgov.dnb.com/webform, or to expedite the process, call (866) 705-5711.

All HHS recipients are required by the Federal Funding Accountability and Transparency Act of 2006, as amended (“Transparency Act”), to report information on subawards. Accordingly, all IHS grantees must notify potential first-tier subrecipients that no entity may receive a first-tier subaward unless the entity has provided its DUNS number to the prime grantee organization. This requirement ensures the use of a universal identifier to enhance the quality of information available to the public pursuant to the “Transparency Act.”

System for Award Management (SAM)

Organizations that were not registered with Central Contractor Registration (CCR) and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the “Transparency Act,” including the specific requirements for DUNS and SAM, can be found on the IHS Grants Management, Grants Policy Web site: https://www.ihs.gov/dgm/index.cfm?module=dsp_dgm_policy_topics.

IV. Application Review Information

The instructions for preparing the application narrative also constitute the evaluation criteria for reviewing and scoring the application. Weights assigned to each section are noted in parentheses. The 10-page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 points. A minimum score of 75 points is required for approval and funding. Points are assigned as follows:

1. Criteria

The instructions for preparing the application narrative also constitute the evaluation criteria for reviewing the application.

The narrative should address program progress for the seven months budget period activities, September 1, 2013 through March 31, 2014.

The narrative should be written in a manner that is clear to outside reviewers unfamiliar with prior related activities of the urban Indian health programs (UIHP). It should be well organized, succinct, and contain all information necessary for reviewers to fully understand the project.

Points assigned for the criteria are as follows:

• UNDERSTANDING OF THE NEED AND NECESSARY CAPACITY (30 Points)

• WORK PLANS (40 Points)

• PROJECT EVALUATION (15 Points)

• ORGANIZATIONAL CAPABILITIES AND QUALIFICATIONS (10 Points)

• CATEGORICAL BUDGET AND BUDGET JUSTIFICATION (5 Points)

A. PROJECT NARRATIVE: UNDERSTANDING OF THE NEED AND NECESSARY CAPACITY (30 points)

1. Facility Capability:

The UIHPs provide health care services within the context of the HHS Strategic Plan, Fiscal Years 2010-2015; the IHS Strategic Plan 2006-2011, and four IHS priorities.

Describe the UIHP: Define activities planned for the 2013 budget period September 1, 2013—March 31, 2014 budget period in each of the following areas:

(a) IHS Priorities for American Indian/Alaska Native Health Care Current governmental trends and environmental issues impact urban Indians and require clear and consistent support by the IHS funded UIHP. The IHS Web site is http://www.ihs.gov.

(1) Renew and Strengthen Partnerships with Tribes and the UIHPs: The UIHPs have a hybrid relationship with the IHS. With the passage of Public Law 111-148, the Indian Health Care Improvement Act was made permanent.

• Identify what the UIHP is doing to strengthen its partnerships with Tribes and other UIHPs.

(a) September 1, 2013—March 31, 2014 activities planned, including information on how results are shared with the community.

(b) List the top ten Tribes whose members are seen by the program.

2. Bring Health Care Reform to the UIHPs: In order to support health care reform, it must be demonstrated there is a willingness to change and improve, i.e., in human resources and business practices.

• Describe activities the UIHP is taking to ensure health care reform is being implemented.

(a) September 1, 2013—March 31, 2014 activities planned.

3. Improve the Quality of and Access to Care: Customer service is the key to quality care. Treating patients well is the first step to improving quality and access. This area also incorporates Best Practices in customer service.

• Identify activities that demonstrate the UIHP is improving quality of and access to care.

(a) September 1, 2013—March 31, 2014 activities planned.

4. Ensure all UIHP work is Transparent, Accountable, Fair, and Inclusive: Quality health care needs to be transparent, with all parties held accountable for that care. Accountability for services is emphasized.

• Describe activities that demonstrate how this is implemented in the UIHP program.

(a) September 1, 2013—March 31, 2014 activities planned.

5. HHS Priorities for Health Care:

Current governmental trends and environmental issues impact urban Indians and require clear and consistent support by the IHS funded UIHP.

(a) Health Care Value Incentives: The growth of health care costs is restrained because consumers know the comparative costs and quality of their health care—and they have a financial incentive to care.

• Identify what the UIHP is doing to help its consumers gain control of their health care and have the knowledge to make informed health care decisions.

(1) September 1, 2013—March 31, 2014 activities planned, including information on how clinical quality data is shared with consumers and the community.

6. Health Information Technology: Secure interoperable electronic records are available to patients and their doctors anytime, anywhere.

• Describe Resource Patient Management Systems (RPMS)/Electronic Health Record (EHR) or non-RPMS activities the UIHP is taking to ensure immediate access to accurate information to reduce dangerous medical errors and help control health care costs.

(a) September 1, 2013-March 31, 2014 activities planned.

7. Medicare Rx: Every senior has access to affordable prescription drugs. Consumers will inspire plans to provide better benefits at lower costs. Medicare Part D is streamlined and improved to better connect people with their benefits. Pay for Performance methodologies act to increase health care quality.

• Identify activities the UIHP is taking to implement Medicare Rx.

(a) September 1, 2013—March 31, 2014 activities planned.

8. Personalized Health Care: Health care is tailored to the individual. Prevention and wellness is emphasized. Propensities for disease are identified and addressed through preemptive intervention.

• Describe activities that demonstrate how this is implemented in the UIHP program.

(a) September 1, 2013—March 31, 2014 activities planned.

9. Obesity Prevention: The risk of many diseases and health conditions are reduced through actions that prevent obesity. A culture of wellness deters or diminishes debilitating and costly health events. Individual health care is built on a foundation of responsibility for personal wellness.

• Describe activities that demonstrate how the UIHP program is implementing this priority.

(a) September 1, 2013—December 31, 2014 activities planned.

10. Tobacco Cessation: The only proven strategies to reduce the risks of tobacco-caused disease are preventing initiation, facilitating cessation, and eliminating exposure to secondhand smoke.

• Describe activities that demonstrate how the UIHP is implementing this priority.

(a) September 1, 2013—March 31, 2014 activities planned.

11. Pandemic Preparedness: The United States is better prepared for an influenza pandemic. Rapid vaccine production capacity is increased, national stockpiles and distribution systems are in place, disease monitoring and communication systems are expanded and local preparedness encompasses all levels of government and society.

• Describe activities that demonstrate how the UIHP is prepared and identify changes, if any, made to the UIHP pandemic preparedness plan.

12. Emergency Response: We have learned from the past and are better prepared for the future. There is an ethic of preparedness at the urban program and throughout the Nation.

• Describe activities that demonstrate how the UIHP is prepared and identify changes, if any, made to the UIHP emergency preparedness plan.

13. Hours of Operation Ensure Access to Care:

• Identify the urban program hours of operation and provide assurance that services are available and accessible at times that meets the needs of the urban Indian population, including arrangements that assure access to care when the UIHP is closed.

14. UIHP Collaboration with the Veteran's Health Administration (VA)

In 2007, the UIHPs contacted their local VA Veterans Integrated Services Network and established agreements to collaborate at the local level to expand opportunities to enhance access to health services and improve the quality of health care of urban Indian veterans.

(a) Describe plan of action to develop a partnership with the local VA and plans to establish a Memorandum of Understanding for serving urban Indian veterans.

(b) Identify areas of collaboration and activities that will be conducted between your UIHP and your local area VA for budget period September 1, 2013-March 31, 2014.

15. GPRA Reporting:

All UIHPs report on IHS GPRA/Government Performance Rating Act Modernization Act (GPRAMA) clinical performance measures. This is required using the Resource and Patient Management System (RPMS). RPMS users must use the Clinical Reporting System (CRS) for reporting. Questions related to GPRA reporting may be directed to the IHS Area Office GPRA Coordinator, or the OUIHP on (301) 443-4680.

The 2014 GPRA Reporting Period is July 1, 2013 through June 30, 2014. The GPRA measures to report for 2014 include 25 clinical measures. The 2014 measure targets are attached.

(a) The following GPRA measures are priority focus areas for target achievement: Good Glycemic Control, Childhood Immunizations and Depression Screening. Briefly describe the steps/activities you will take to ensure your program meets the 2014 target rates for these measures.

(b) Describe at least two actions you will complete to meet the 2014 desired performance outcomes/results. For programs using RPMS, a Performance Improvement Toolbox is available on the CRS Web site at http://www.ihs.gov/cio/crs_performance_improvementtoolbox.asp.

(c) GPRA Behavioral Health performance measures include Alcohol Screening (to prevent Fetal Alcohol Syndrome (FAS)), Domestic (Intimate Partner) Violence Screening and Depression Screening. Describe actions you will take to improve 2013-2014 desired behavioral health performance outcomes/results.

(d) Document your ability to collect and report on the required performance measures to meet GPRA requirements. Include information about your health information technology system.

FY 2014 GPRA MEASURES

1. Diabetes DX Ever (not a GPRA measure, used for context only).

2. Documented A1c (not a GPRA measure, used for context only).

3. Diabetes: Good Glycemic Control.

4. Diabetes: Controlled Blood Pressure.

5. Diabetes: Dyslipidemia (LDL) Assessment.

6. Diabetes: Nephropathy Assessment.

7. Diabetes: Retinopathy Assessment.

8. Influenza Immunization 65+.

9. Pneumovax Immunization 65+.

10. Childhood Immunizations.

11. Pap Screening Rates.

12. Mammography Screening Rates.

13. Colorectal Cancer Screening Rates.

14. Cardiovascular Disease (CVD Screening Rates).

15. Tobacco Cessation.

16. Alcohol Screening (FAS Prevention).

17. Domestic Violence/Intimate Partner Violence Screening.

18. Depression Screening.

19. Prenatal Human Immunodeficiency Virus (HIV) Screening.

20. Childhood Weight Control.

21. Breast Feeding Rates.

22. Topical Fluorides.

23. Dental Assessment.

24. Dental Sealants.

25. Suicide Surveillance.

16. Schedule of Charges and Maximization of Third Party Payments.

(a) Describe the UIHP established schedule of charges and consistency with local prevailing rates.

(1) If the UIHP is not currently billing for billable services, describe the process the UIHP will take to begin third party billing to maximize collections.

(2) Describe how reimbursement is maximized from Medicare, Medicaid, State Children's Health Insurance Program, private insurance, etc.

(b) Describe how the UIHP achieves cost effectiveness in its billing operations with a brief description of the following:

(1) Establishes appropriate eligibility determination.

(2) Reviews/updates and implements up-to-date billing and collection practices.

(3) Updates insurance at every visit.

(4) Maintains procedures to evaluate necessity of services.

(5) Identifies and describes financial information systems used to track, analyze and report on the program's financial status by revenue generation, by source, aged accounts receivable, provider productivity, and encounters by payor category.

(6) Indicate the date the UIHP last reviewed and updated its Billing Policies and Procedures.

B. PROGRAM PLANNING: WORK PLANS (40 Points)

A program narrative and a program specific work plan are required for each health services program: (1) Health Promotion/Disease Prevention, (2) Immunizations, (3) Alcohol/Substance Abuse, and (4) Mental Health. The IHCIA, Public Law 111-148, as amended, identified eligibility for health services as follows.

The grantee shall provide health care services to eligible urban Indians living within the urban center. An “Urban Indian” eligible for services, as codified at 25 U.S.C. 1603(13), (27), (28), includes any individual who:

1. Resides in an urban center, which is any community that has a sufficient urban Indian population with unmet health needs to warrant assistance under subchapter IV of the IHCIA, as determined by the Secretary, HHS; and who

2. Meets one or more of the following criteria:

(a) Irrespective of whether he or she lives on or near a reservation, is a member of a Tribe, band, or other organized group of Indians, including: (i) Those Tribes, bands, or groups terminated since 1940, and (ii) those recognized now or in the future by the State in which they reside; or

(b) Is a descendant, in the first or second degree, of any such member described in (A); or

(c) Is an Eskimo or Aleut or other Alaska Native; or

(d) Is a California Indian; ¹

(e) Is considered by the Secretary of the Department of the Interior to be an Indian for any purpose; or

(f) Is determined to be an Indian under regulations pertaining to the Urban Indian Health Program that are promulgated by the Secretary, HHS.

¹ Eligibility of California Indians may be demonstrated by documentation that the individual:

(1) Is a descendent of an Indian who was residing in California on June 1, 1852; or

(2) Holds trust interests in public domain, national forest, or Indian reservation allotments in California; or

(2) Is listed on the plans for distribution of assets of California Rancherias and reservations under the Act of August 18, 1958 (72 Stat. 619), or is the descendant of such an individual.

The grantee is responsible for taking reasonable steps to confirm that the individual is eligible for IHS services as an urban Indian.

PROGRAM NARRATIVES AND WORKPLANS

1. HP/DP

Program Narrative and Work Plan

Contact your IHS Area Office HP/DP Coordinator to discuss and identify effective and innovative strategies to promote health and enhance prevention efforts to address chronic diseases and conditions. Identify one or more of the strategies you will conduct during budget period September 1, 2013—March 31, 2014.

(a) Applicants are encouraged to use evidence-based and promising strategies which can be found at the IHS best practice database at http://www.ihs.gov/hpdp/and the National Registry for Effective Programs at http://modelprograms.samhsa.gov/.

(b) Program Narrative. Provide a brief description of the collaboration activities that: (1) Will be planned and will be conducted between the UIHP and the IHS Area Office HP/DP Coordinator during the budget period September 1, 2013 through March 31, 2014.

(c) An example of an HP/DP work plan is provided on the following pages. Develop and attach a copy of the UIHP HP/DP Work Plan for September 1, 2013 through March 31, 2014.

Sample 2013 HP/DP Work Plan
[Goal: To address physical inactivity and consumption of unhealthy food among youth who are in the 4th to 6th grade in the Watson, Kennedy, Blackwood, and Rocky Hill Elementary schools.]
Objectives | Activities/time line | Person responsible | Evaluation
1. Develop school policies to address physical inactivity and consumption of unhealthy foods in the first year of the funding year | 1. Schedule a meeting with the school health board in the first quarter of the project 2. Establish a parent advisory committee to assist with the development of the policy in 2nd quarter | Program Coordinator School Administrator | Progress report on status of policy and documentation of number of participants in parent advisory committee, and number of meetings held.
2. Implement a classroom nutrition curriculum to increase awareness about the importance of healthier foods | 1. Design pre/post test survey and pilot test with group of students by 2nd quarter | Program Coordinator IHS Nutritionist | Pre/post knowledge, attitude, and behavior survey.
| 2. Schedule a meeting with the School Principal to discuss dates of program implementation by 3rd quarter
| 3. Implement the “Healthy Eating” curriculum, a 6 week program in the 2nd quarter
| 4. Collect pre/post survey at beginning and end of the program to assess changes
3. Implement physical activity in at least four schools for grades 4th to 6th in first year of the funding | 1. Contract with SPARK PE to train classroom teachers to implement SPARK PE in the school by 3rd Quarter | Program Coordinator School Counselor and PE teacher | 1. Training evaluation and number of participants.
| 2. Train volunteers to administer FITNESSGRAM to collect baseline data and post data to assess changes |  | 2. Pre/post FITNESSGRAM Data.

Sample 2013 HP/DP Work Plan
[Goal: To reduce tobacco use among residents of community X and Y.]
Objectives | Activities/time line | Person responsible | Evaluation
1. Establish a tobacco-free policy in the schools and Tribal buildings by year one | 1. Schedule a meeting with the Tribal Council and school board to increase awareness of the health effects of tobacco by June 2010 | Tobacco Coordinator | Documentation of the number of participants.
| 2. Schedule and conduct tobacco awareness education in the community, schools, and worksites by July 2010 through September 2010 | Tobacco Coordinator Health Educator | Documentation of the number of participants.
| 3. Draft a policy and present to the Tribal Council for approval by January 2011 |  | Documentation of whether the policy was established.
2. Coordinate and establish tobacco cessation programs with the local hospitals and clinics | 1. Partner with the American Cancer Association and the Tribal Health Education Coordinators to establish 8-week tobacco cessation programs by July 2010 | Tobacco Coordinator Health Educator Pharmacist | Progress toward timeline.
| 2. Meet with the hospital/clinic administrators and pharmacist to discuss and develop a behavior-based tobacco cessation program | Tobacco Coordinator Health Educator | Progress report indicating timeline is being met.
| 3. Design and disseminate brochures and flyers of tobacco cessation program that are available in the community and clinic | Tobacco Coordinator | # of brochures distributed.
| 4. Meet with nursing and medical provider staff to increase patient referral to tobacco cessation program | Health Educator, Tobacco Coordinator | RPMS data—baseline # of referrals, # of participants who completed program, # who quit tobacco.
| 5. Implement the 8-week tobacco cessation program at the community X and Y clinic | Tobacco Coordinator

2. IMMUNIZATION SERVICES

Program Narrative and Work Plan

(a) Program Management Required Activities

(1) Provide assurance that your facility is participating in the Vaccines for Children program.

(2) Provide assurance that your facility has look up capability with State/regional immunization registry (where applicable). Please contact Amy Groom, Immunization Program Manager at amy.groom@ihsgov or (505) 248-4374 for more information.

(b) Service Delivery Required Activities—For Sites using RPMS

(1) Provide trainings to providers and data entry clerks on the RPMS Immunization package.

(2) Establish process for immunization data entry into RPMS (e.g., point of service or through regular data entry).

(3) Utilize RPMS Immunization package to identify 3-27 month old children who are not up to date and generate reminder/recall letters.

(c) Immunization Coverage Assessment Required Activities

(1) Submit quarterly immunization reports to Area Immunization Coordinator for the 3-27 month old, Two year old and Adolescent, Influenza and Adult reports. Sites not using the RPMS Immunization package should submit a Two Year old immunization coverage report—an excel spreadsheet with the required data elements that can be found under the “Report Forms for non-RPMS sites” section at: http://www.ihs.gov/Epi/index.cfm?module=epi_vaccine_reports.

(d) Program Evaluation Required Activities

(1) Report coverage with the 4313314 ** vaccine series for children 19-35 months old.

* The 4:3:1:3:3:1:4 vaccine series is defined as: 4 doses diphtheria and tetanus toxoids and pertussis vaccine, diphtheria and tetanus toxoids, or diphtheria and tetanus toxoids and any pertussis vaccine, 3 doses of oral or inactivated polio vaccine, 1 dose of measles, mumps, and rubella vaccine, 3 doses of Haemophilus influenzae type b vaccine, 3 doses of hepatitis B vaccine, 1 dose of varicella vaccine, and 4 doses of pneumococcal conjugate vaccine(PCV).

(2) Report coverage with influenza vaccine for adults 65 years and older.

(3) Report coverage with at least one dose of pneumococcal vaccine for adults 65 years and older.

(4) Report coverage for patients (6 months and older) who received at least one dose of seasonal flu vaccine during flu season.

(5) Establish baseline coverage on adult vaccines, specifically: 1 dose of Tdap for adults 19 yrs and older; 1 dose of Human Papillomavirus (HPV) for females 19-26 years old; 3 doses HPV for females 19-26 yrs; 1 dose of HPV for males 19-21 years old; 3 doses HPV for males 19-21 years; and 1 dose of Zoster for patients 60+ years.

Sample Urban Grant FY 2013 Work Plan Immunization
Primary prevention objective | Service or program | Target population | Process measure | Outcome measures
Protect children and communities from vaccine preventable diseases | Immunization Program | Children < 3 years | On a quarterly basis: # of children 3-27 months old | As of June 30th, 2012:
|  |  | # of children 3-27 months old who are children up to date with age appropriate vaccinations | % of 19-35 month olds up to date with the 431331 and 4313314 vaccine series.
|  |  | % of 3-27 month old children up to date with age appropriate vaccinations
|  |  | # of children 19-35 months old
|  |  |  | # of children 19-35 months old who received the 431331 and 4313314 vaccine series
|  |  | % of children 19-35 months old who received the 431331 and 4313314 vaccine series
Protect adolescents and communities from vaccine preventable diseases | Immunization Program | Adolescents 13-17 years | On a quarterly basis: # of adolescents 13-17 years old | As of June 30th, 2012:
|  |  | # of adolescents 13-17 years old who are up to date with Tdap, Tdap/Td, Meningococcal, and 1, 2 and 3 dose of HPV (females only) | % of adolescents 13-17 years old who are up to date with Tdap.
|  |  | % of adolescents 13-17 years old who are up to date with Tdap, Tdap/Td, Meningococcal, and 1, 2 and 3 dose of HPV (females only) | % of adolescents 13-17 years old who are up to date with Tdap, females only.
|  |  |  | # of adolescents 13-17 years old who are up to date with Meningococcal vaccine.
|  |  |  | # of adolescents 13-17 years old who are up to date with 1, 2 and 3 dose of HPV (females only).
Protect adults and communities from influenza | Immunization Program | All Ages | On a quarterly basis during flu season (e.g., Sept-June) | As of June 30th, 2012:
|  |  | # of patients (all ages) | # of patients who received a seasonal flu shot during the flu season.
|  |  | # of patients who received a seasonal flu shot during the flu season
|  |  | % of patients who received a seasonal flu shot during flu season | % of patients who received a seasonal flu shot during flu season.
Protect adults and communities from influenza & Pneumovax | Immunization Program | Adults > 65 years | On a quarterly basis: # of adults 65+ years | As of June 30th, 2012:
|  |  | # of adults 65+ years who received an influenza shot during flu season | % of adults 65+ years who received an influenza shot Sept. 1, 2010-June 30, 2011.
|  |  | # of adults 65+ years who received a pneumovax shot % of adults 65+ years who received an influenza shot during flu season | % of adults 65+ years who received a pneumovax shot ever
|  |  | % of adults 65+ years who received a pneumovax shot

3. ALCOHOL/SUBSTANCE ABUSE

Program Narrative and Work Plan

(a) Narrative Description of Program Services for September 1, 2013-March 31, 2014 Budget Period

(1) Program Objectives

(a) Clearly state the outcomes of the health service.

(b) Define needs related outcomes of the program health care service.

(c) Define who is going to do what, when, how much, and how you will measure it.

(d) Define the population to be served and provide specific numbers regarding the number of eligible clients for whom services will be provided.

(e) State the time by which the objectives will be met.

(f) Describe objectives in numerical terms—specify the number of clients that will receive services.

(g) Describe how achievement of the goals will produce meaningful and relevant results (e.g., increase access, availability, prevention, outreach, pre-services, treatment, and/or intervention).

(h) Provide a one-year work plan that will include the primary objectives, services or program, target population, process measures, outcome measures, and data source for measures (see work plan sample in Appendix 2).

(i) Identify Services Provided: Primary Residential; Detox; Halfway House; Counseling; Outreach and Referral; and Other (Specify)

(ii) Number of beds: Residential __, Detox__; or Half way House __.

(iii) Average monthly utilization for the past year.

(iv) Identify Program Type: Integrated Behavioral Health; Alcohol and Substance Abuse only; Stand Alone; or part of a health center or medical establishment.

(i) Address methamphetamine-related contacts:

(i) Estimate the number patient contacts during the budget period, September 1, 2013—March 31, 2014.

(ii) Describe your formal methamphetamine prevention and education program efforts to reduce the prevalence of methamphetamine abuse related problems through increased outreach, education, prevention and treatment of methamphetamine-related issues.

(iii) Describe collaborative programming with other agencies to coordinate medical, social, educational, and legal efforts.

(2) Program Activities

(a) Clearly describe the program activities or steps that will be taken to achieve the desired outcomes/results. Describe who will provide (program, staff) what services (modality, type, intensity, duration), to whom (individual characteristics), and in what context (system, community).

(b) State reasons for selection of activities.

(c) Describe sequence of activities.

(d) Describe program staffing in relation to number of clients to be served.

(e) Identify number of Full Time Equivalents (FTEs) proposed and adequacy of this number:

(i) Percentage of FTEs funded by IHS grant funding; and

(ii) Describe clients and client selection.

(f) Address the comprehensive nature of services offered in this program service area.

(g) Describe and support any unusual features of the program services, or extraordinary social and community involvement.

(h) Present a reasonable scope of activities that can be accomplished within the time allotted for program and program resources.

(3) Accreditation and Practice Model

(a) Name of Program Accreditation.

(b) Type of evidence-based practice.

(c) Type of practice-based model.

(4) Attach the Alcohol/Substance Abuse Work Plan.

IHS Urban Grant FY 2013 Work Plan
[Alcohol/Substance Abuse Program Sample Work Plan]
Objectives | Service or program | Target population | Process measure | Outcome measures | Data source for measures
What are you trying to accomplish? | What type of program do you propose? | Who do you hope to serve in your program? | What information will you collect about the program activities? | What information will you collect to find out the results of your program? | Where will you find the information you collect?
To prevent substance abuse among urban American Indian youth | Community-based substance abuse prevention curriculum | American Indian youth ages 5-18 years old | # of youth completing the curriculum, # of sessions conducted, # of staff trained | Incidence/prevalence of substance abuse/dependence | Medical records, RPMS behavioral health package, National Youth Survey.
To prevent substance abuse and related problems | After school, summer, and weekend activities (e.g. outdoor experiential activities, camps, classroom based problem solving activities) | American Indian youth ages 5-14 years old | # of youth completing community-based sessions, # of parents completing community-based sessions, # of community-based sessions | Incidence of substance abuse, incidence of negative and positive attitudes and behaviors, incidence of peer drug use | Charts, RPMS behavioral health package, National Youth Survey.
Reduce drug use and increase treatment retention | Matrix model for outpatient treatment | American Indian adult methamphetamine clients | # of clients completing program, # of relapse prevention sessions, # of family and group therapies, # of drug education sessions, # of self-help groups, # of urine tests | Incidence of drug use, increase or decrease in treatment retention, positive or negative urine samples | Medical records, RPMS behavioral health package, Addiction Severity Index, results of urine tests.

4. MENTAL HEALTH SERVICES

Program Narrative and Work Plan

Use the alcohol/substance abuse program narrative description template to develop the Mental Health Services program narrative. Attach the UIHP Mental Health Services Work Plan.

IHS Urban Grant FY 2013 Work Plan
[Mental Health Program Sample Work Plan]
Objectives | Service or program | Target population | Process measure | Outcome measures | Data source for measures
What are you trying to accomplish? | What type of program do you propose? | Who do you hope to serve in your program? | What information will you collect about the program activities? | What information will you collect to find out the results of your program? | Where will you find the information you collect?
To promote mental health | American Indian Life Skills Development curriculum | American Indian youth ages 13-17 years old | # of youth completing the curriculum, # of sessions conducted, # of teachers trained, number of community resource leaders trained | Feelings of hopelessness, problem solving skills | Medical records, RPMS behavioral health package, Beck Hopelessness Scale, problem solving skills.
Improve the mental health of American Indian children and their families | Home-based, community-based, and office-based mental health counseling | American Indian children and their families needing services from our community-based program | # of individual, couples, group, and family counseling sessions, # of home, community, and office-based visits | Reduced child involvement in juvenile justice and child welfare, improved coping skills, improved school attendance and grades | Medical records, RPMS behavioral health package coping skill measure, report cards, attendance records.
Reduce symptoms related to trauma | Mental health counseling with cognitive behavioral therapy intervention and historical trauma intervention | American Indian adults | # of individual, couples, group, and family counseling sessions, # of historical trauma groups, # of adults counseled | Incidence of Post-Traumatic Stress Disorder (PTSD) symptoms, incidence of depression, increased coping skills, increased peer and family support | Self-report PTSD, Beck Depression Inventory, coping skills measure, peer and family support measure, medical records, RPMS behavioral health package.

RPMS Suicide Reporting Form

Instructions for Completing

This form is intended as a data collection tool only. It does not replace documentation of clinical care in the medical record and it is not a referral form. HRN, Date of Act and Provider Name are required fields. If the information requested is not known or not listed as an option, choose “Unknown” or “Other” (with specification) as appropriate. The form can be partially completed, saved and completed at a later time if needed.

LOCAL CASE NUMBER:

Indicate internal tracking number if used, not required.

DATE FORM COMPLETED:

Indicate the date the Suicide Reporting Form was completed.

PROVIDER NAME:

Record the name of Provider completing the form.

DATE OF ACT:

Record Date of Act as mm/dd/yy. If exact day is unknown, use the month, 1st day of the month (or another default day), year. If exact date of act is unknown, all providers should use the same default day of the month.

HEALTH RECORD NUMBER:

Record the patient's health record number.

DOB/AGE:

Record Date of Birth as mm/dd/yy and patient's age.

SEX:

Indicate Male or Female.

COMMUNITY WHERE ACT OCCURRED:

Record the community code or the name, county and state of the community where the act occurred.

EMPLOYMENT STATUS:

Indicate patient's employment status, choose one.

RELATIONSHIP STATUS:

Indicate patient's relationship status, choose one.

EDUCATION:

Select the highest level of education attained and if less than a High School graduate, record the highest grade completed. Choose one.

SUICIDAL BEHAVIOR:

Identify the self-destructive act, choose one. Generally, the threshold for reporting should be ideation with intent and plan, or other acts with higher severity, either attempted or completed.

LOCATION OF ACT:

Indicate location of act, choose one.

PREVIOUS ATTEMPTS:

Indicate number of previous suicide attempts, choose one.

METHOD:

Indicate method used. Multiple entries are allowed, check all that apply. Describe methods not listed.

SUBSTANCE USE INVOLVED:

If known, indicate which substances the patient was under the influence of at the time of the act. Multiple entries allowed, check all that apply. List drugs not shown.

CONTRIBUTING FACTORS:

Multiple entries allowed, check all that apply. List contributing factors not shown.

DISPOSITION:

Indicate the type of follow-up planned, if known.

NARRATIVE:

Record any other relevant clinical information not included above.

Last Updated 10/25/12

BILLING CODE 3510-22-P

BILLING CODE 3510-22-C

C. PROJECT EVALUATION (15 Points)

1. Describe your evaluation plan. Provide a plan to determine the degree to which objectives are met and methods are followed.

2. Describe how you will link program performance/services to budget expenditures. Include a discussion of Uniform Data System (UDS) and GPRA Report Measures here.

3. Include the following program specific information:

(a) Describe the expected feasibility and reasonable outcomes (e.g., decreased drug use in those patients receiving services) and the means by which you determined these targets or results.

(b) Identify dates of reviews by the internal staff to assess efficacy:

(1) Assessment of staff adequacy.

(2) Assessment of current position descriptions.

(3) Assessment of impact on local community.

(4) Involvement of local community.

(5) Adequacy of community/governance board.

(6) Ability to leverage IHS funding to obtain additional funding.

(7) Additional IHS grants obtained.

(8) New initiatives planned for funding year.

(9) Customer satisfaction evaluations.

4. Quality Improvement Committee (QIC).

The UIHP QIC, a planned, organization-wide, interdisciplinary team, systematically improves program performance as a result of its findings regarding clinical, administrative and cost-of-care performance issues, and actual patient care outcomes including the FY 2012 GPRA report and 2011 UDS report (results of care including safety of patients).

(a) Identify the QIC membership, roles, functions, and frequency of meetings. Frequency of meetings shall be at least quarterly.

(b) Describe how the results of the QIC reviews provide regular feedback to the program and community/governance board to improve services.

(1) September 1, 2013-March 31, 2014 activities planned.

(c) Describe how your facility is integrating the improving patient care model into your health delivery structure:

(1) Identify specific measures you are tracking as part of the Improvements in Patient Care (IPC) work.

(2) Identify community members that are part of your IPC team.

(3) Describe progress meeting your program's goals for the use of the IPC model within your healthcare delivery model.

D. PROGRESS REPORT: ORGANIZATIONAL CAPABILITIES AND QUALIFICATIONS (10 Points)

This section outlines the broader capacity of the organization to complete the project outlined in the application and program specific work plans. This section includes the identification of personnel responsible for completing tasks and the chain of responsibility for successful completion of the project outlined in the work plans.

1. Describe the organizational structure with a current approved one page organizational chart that shows the board of directors, key personnel, and staffing. Key personnel positions include the Chief Executive Officer or Executive Director, Chief Financial Officer, Medical Director, and Information Officer.

2. Describe the board of directors that is fully and legally responsible for operation and performance of the 501(c)(3) non-profit urban Indian organization:

(a) List all current board members by name, sex, and Tribe or race/ethnicity.

(b) Indicate their board office held.

(c) Indicate their occupation or area of expertise.

(d) Indicate if the board member uses the UIHP services.

(e) Indicate if the board member lives in the health service area.

(f) Indicate the number of years of continuous service.

(g) Indicate number of hours of Board of Directors training provided, training dates and attach a copy of the Board of Directors training curriculum.

3. List key personnel who will work on the project.

(a) Identify existing key personnel and new program staff to be hired.

(b) For all new key personnel only include position descriptions and resumes in the appendix. Position descriptions should clearly describe each position and duties indicating desired qualifications, experience, and requirements related to the proposed project and how they will be supervised. Resumes must indicate that the proposed staff member is qualified to carry out the proposed project activities and who will determine if the work of a contractor is acceptable.

(c) Identify who will be writing the progress reports.

(d) Indicate the percentage of time to be allocated to this project and identify the resources used to fund the remainder of the individual's salary if personnel are to be only partially funded by this grant.

E. CATEGORICAL BUDGET AND BUDGET JUSTIFICATION (5 Points)

This section should provide a clear estimate of the project program costs and justification for expenses for the budget period September 1, 2013-March 31, 2014. The budget and budget justification should be consistent with the tasks identified in the work plan.

1. Categorical Budget (Form SF 424A, Budget Information Non-Construction Programs).

(a) Provide a narrative justification for all costs, explaining why each line item is necessary or relevant to the proposed project. Include sufficient details to facilitate the determination of cost allowability.

(b) If indirect costs are claimed, indicate and apply the current negotiated rate to the budget. Include a copy of the current rate agreement in the appendix.

V. Award Administration Information

Reporting Requirements

Failure to submit required reports within the time allowed may result in suspension or termination of an active agreement, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the organization or the individual responsible for preparation of the reports.

The reporting requirements for this program are noted below:

A. Program Progress Report

Program progress reports are required quarterly. These reports will include a brief comparison of actual program accomplishments to the goals established for the period, reasons for slippage (if applicable), and other pertinent information as required. A final program report must be submitted within 90 days of expiration of the budget/project period.

B. Financial Report

Federal Financial Report, (FFR-SF-425), Cash Transaction Reports are due every calendar quarter to the Division of Payment Management, Payment Management Branch, HHS at: http://www.dpm.psc.gov. Failure to submit timely reports may cause a disruption in timely payments to your organization.

Grantees are responsible and accountable for accurate information being reported on all required reports; the Progress Reports, and Federal Financial Report.

C. Federal Subaward Reporting System (FSRS)

This award may be subject to the Transparency Act subaward and executive compensation reporting requirements of 2 CFR part 170.

The Transparency Act requires the Office of Management and Budget (OMB) to establish a single searchable database, accessible to the public, with information on financial assistance awards made by Federal agencies. The Transparency Act also includes a requirement for recipients of Federal grants to report information about first-tier subawards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 subaward obligation dollar threshold met for any specific reporting period. Additionally, all new (discretionary) IHS awards (where the project period is made up of more than one budget period) and where: (1) The project period start date was October 1, 2010 or after and (2) the primary awardee will have a $25,000 subaward obligation dollar threshold during any specific reporting period will be required to address the FSRS reporting. For the full IHS award term implementing this requirement and additional award applicability information, visit the Grants Management Grants Policy Web site at: https://www.ihs.gov/dgm/index.cfm?module=dsp_dgm_policy_topics.

D. Annual Audit Report

In accordance with 25 U.S.C. 1657, the reports and records of the urban Indian organization with respect to a contract or grant under subchapter IV, shall be subject to audit by the Secretary, Department of Health and Human Services and the Comptroller General of the United States.

The Secretary shall allow as a cost to any contract or grant entered into under section 1653 of this title the cost of an annual private audit conducted by a certified public accountant.

E. GPRA Report

GPRA reports are required quarterly. These reports are submitted to the IHS Area GPRA Coordinator. RPMS users must use CRS for reporting. Non-RPMS users must use the interface system to transfer data from their current data system to RPMS for CRS reporting.

F. Quarterly Immunization Report

Immunization reports are required quarterly. These reports are submitted to the IHS Area Immunization Coordinator.

G. Unmet Needs Report

An unmet needs report is required quarterly. These reports will include information gathered to: (1) Identify gaps between unmet health needs of urban Indians and the resources available to meet such needs; and (2) make recommendations to the Secretary and Federal, State, local, and other resource agencies on methods of improving health service programs to meet the needs of urban Indians.

VI. Agency Contacts

1. Questions on the programmatic issues may be directed to: Phyllis Wolfe, Director, Office of Urban Indian Health Programs, 801 Thompson Avenue, Suite 200, Rockville, MD 20852, 301-443-1631, Phyllis.wolfe@ihs.gov.

2. Questions on grants management and fiscal matters may be directed to: Pallop Chareonvootitam, Grants Management Specialist, 801 Thompson Avenue, Suite 100, Rockville, MD 20852, 301-443-2195, Pallop.chareonvootitam@ihs.gov.

3. Questions on systems matters may be directed to: Paul Gettys, Grant Systems Coordinator, 801 Thompson Avenue, TMP Suite 360, Rockville, MD 20852, Phone: 301-443-2114; or the DGM main line 301-443-5204, Fax: 301-443-9602, Email: Paul.Gettys@ihs.gov.

VII. Other Information

The Public Health Service strongly encourages all grant and contract recipients to provide a smoke-free workplace and promote non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Date: July 31, 2013.
Yvette Roubideaux,
Acting Director, Indian Health Service.

[FR Doc. 2013-19113 Filed 8-7-13; 8:45 am]

BILLING CODE 4165-16-P